DEPARTMENT OF THE INTERIOR

National Park Service

[NPS-WASO-NRNHL-DTS#-34132; PPWOCRADI0, PCU00RP14.R50000]

National Register of Historic Places; Notification of Pending Nominations and Related Actions

AGENCY: National Park Service, Interior.

ACTION: Notice.

SUMMARY: The National Park Service is soliciting electronic comments on the significance of properties nominated before June 18, 2022, for listing or related actions in the National Register of Historic Places.

DATES: Comments should be submitted electronically by July 15, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 18, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CONNECTICUT

Hartford County

Landers, Frary and Clark Ellis Street Plant Historic District, 321 and 322 Ellis St., New Britain, SG100007948

GEORGIA

Troup County

Dixie Cotton Mills and Mill Village Historic District, Roughly centered on 710 Greenville St., LaGrange, SG100007942

IOWA

Mitchell County

Our Savior's Lutheran Church, 833 Ash St., Osage, SG100007944

Pottawattamie County

Council Bluffs Telephone Exchange, 12 Scott St., Council Bluffs, SG100007943

LOUISIANA

Jefferson Parish

McDonoghville Historic District, Roughly bounded by the Crescent City Connection, Jefferson Parish Line, Hancock St., 4th St. extension, Ocean Ave., and the Mississippi R. Trail, Gretna, SG100007945

MARYLAND

Dorchester County

Medicine Hill, 1130 Hooper's Island Rd., Church Creek vicinity, SG100007947

OHIO

Montgomery County

Dayton View Triangle Historic District, Bounded by Salem Ave., Cornell, and Philadelphia Drs., Dayton, SG100007950

RHODE ISLAND

Washington County

Cedar Point Historic District, 13, 21, 26, 31, and 49 Loop Dr., North Kingstown, SG100007946

WYOMING

Teton County

Bridge over Snake River-Structure DEY, Cty. Rd. 11, 7.5 mi. south of Jackson, Jackson vicinity, SG100007949

(Authority: 36 CFR 60.13)

Dated: June 22, 2022.
Paul Lusignan,
Acting Chief, National Register of Historic Places/National Historic Landmarks Program.

[FR Doc. 2022-14055 Filed 6-29-22; 8:45 am]

BILLING CODE 4312-52-P